DEPARTMENT OF COMMERCE

National Oceanic and Atmospheric Administration

[Docket No. 010710173-1215-03; I.D. 050201A]

RIN 0648-AO91

Mid-Atlantic Fishery Management Council; Request for Research Proposals (RFP); Closing Date Extension

AGENCY: National Marine Fisheries Service (NMFS), National Oceanic and Atmospheric Administration (NOAA), Commerce.

ACTION: Closing date extension of notice of solicitation for applications.

SUMMARY: NMFS published a notice in the Federal Register on July 25, 2001, soliciting proposals for research projects. The notice described how the application and selection process for research projects to be funded by a set-aside from the Total Allowable Landings (TAL) of selected species will operate. This document extends the closing date for research proposals to no later than 5 p.m., EDT on September 14, 2001, in order to provide the fishing industry and academia ample opportunity to collaborate and apply for the research set-aside allocations.

DATES: The closing date for receipt of proposals or addenda to preexisting proposals is extended until September 14, 2001. All research proposals must be received no later than 5 p.m., EDT, on September 14, 2001, in the Northeast Regional Office (see ADDRESSES). Applications that are postmarked but not received by that time will not be accepted. Facsimile applications will not be accepted.

ADDRESSES: Proposals must be submitted to Patricia A. Kurkul, Regional Administrator, NMFS, Northeast Regional Office, 1 Blackburn Drive, Gloucester, MA 01930. Mark proposals “Attention: Mid-Atlantic Research Proposals.”

Copies of the Standard Forms for submission of research proposals may be found on the Internet in a PDF (Portable Document Format) version at http://www.ofa.noaa.gov/ÿ7Egrants/index.html under the title “Grants Management Forms,” or by contacting the Council office (see FOR FURTHER INFORMATION CONTACT).

FOR FURTHER INFORMATION CONTACT: Daniel Furlong, Executive Director, Mid-Atlantic Fishery Management Council, (302) 674-2331 or David Gouveia, Fishery Policy Analyst, NMFS, (978) 281-9280.

SUPPLEMENTARY INFORMATION: In the Federal Register issue of July 25, 2001 (66 FR 38636), a notice of request for proposals for research projects established a deadline for receipt of research proposals of August 24, 2001. The closing date for receipt of applications is hereby extended until September 14, 2001, in order to provide the fishing industry and academia ample opportunity to collaborate and apply for the research set-aside allocations. All applicants that have submitted proposals prior to the original closing date of August 24, 2001, will be allowed to modify their proposals by providing a supplement, addendum, or re-submission of their research proposal. Please refer to the July 25, 2001, Federal Register notice for further information on proposal requirements.

Dated: August 23, 2001.
John Oliver,
Acting Deputy Assistant Administrator for Fisheries National Marine Fisheries Service.

[FR Doc. 01-21830 Filed 8-24-01; 4:23 pm]

BILLING CODE 3510-22-S